DEPARTMENT OF ENERGY

Federal Energy Regulatory Commission

[Docket No. EL15-53-000]

California Independent System Operator Corporation; Notice Setting Due Date for Interevention in Section 206 Proceeding

On March 16, 2015, the Commission issued an order in Docket Nos. EL15-53-000, and ER15-861-000 pursuant to section 206 of the Federal Power Act, 16 U.S.C. 824e (2012), instituting an investigation to determine the justness and reasonableness of the Energy Imbalance Market provisions in the California Independent System Operator Corporation's existing tariff related to the imbalance energy price spikes in PacifiCorp's balancing authority areas. California Independent System Operator Corporation, 150 FERC ¶ 61,191 (2015). On March 17, 2015, the Commission issued a notice establishing a refund effective date.

Any interested persons desiring to be heard in Docket No. EL15-53-000 should file a notice of intervention or motion to intervene, as appropriate, in accordance with Rule 214 of the Commission's Rules of Practice and Procedure (18 CFR 385.214) by 5 p.m. ET on April 15, 2015. The Commission encourages electronic submission of interventions in lieu of paper using the “eFiling” link at http://www.ferc.gov. Persons unable to file electronically should submit an original hard copy of the intervention to the Federal Energy Regulatory Commission, 888 First Street NE., Washington, DC 20426.

Dated: March 26, 2015.
Kimberly D. Bose,
Secretary.

[FR Doc. 2015-07537 Filed 4-1-15; 8:45 am]

BILLING CODE CODE 6717-01-P